TENNESSEE VALLEY AUTHORITY

Sunshine Act Meeting

Agency Holding the Meeting: Tennessee Valley Authority (Meeting No. 1527).

Time and Date: 9 a.m. (EST), March 5, 2001.

Place: TVA Chattanooga Office Complex Auditorium, 1101 market Street, Chattanooga, Tennessee.

Status: Open.

Agenda

Approval of minutes of meeting held on January 24, 2001.

New Business

B—Purchase Award

B1. Supplement to Contract No. 98PPW-231635 with Zurich American Insurance Company for workers' compensation, employer's liability, and general liability insurance for TVA's Owner Controlled Insurance Program.

C—Energy

C1. Contract with STEAG LLC to design, fabricate, and deliver an ammonia vaporization system for each of the selective catalytic reduction systems being constructed at TVA's fossil plants.

E—Real Property Transaction

E1. Public auction sale of approximately 2.73 acres of TVA land in DeSoto County, Mississippi, Tract No. XFRESS-1.

F—Other

F1. Approval to file a condemnation case to acquire property interest and a road easement for access to a TVA power project. The affected tracts are Tract Nos. LSSSS-1 AND -2AR, South Scottsville, Kentucky, Switching Station in Allen County, Kentucky.

Information Items

1. Delegation of authority to the Vice President, Fuel Supply and Engineering Services, or such officer's designee, to assign monetary credits received by TVA under the Kentucky National Forest Land Transfer Action of 2000.

2. Modification of Contract No. P00P07-259943 with Virginia Electric and Power Company for coal supply to John Sevier Fossil Plant.

3. Modification of Contract No. P98P07-233158 with Coastal Coal Company, LLC, for coal supply to John Sevier Fossil Plant.

4. Modification of Contract No. P90P07-115734 with Arch Coal Sales for coal supply to John Sevier Fossil Plant.

5. Delegation of authority to the Vice President, Fuel Supply and Engineering Services, to award an extension of a term transportation contract to CSX Transportation, Inc., for delivery services to Bull Run Fossil Plant.

6. Approval to file a condemnation case to acquire a right-of-way easement for the Gallatin Fossil Plant-Hoeganaes Transmission Line in Sumner County, Tennessee, Tract No. GFPH-2.

For more information: Please call TVA media Relations at (865) 632-6000, Knoxville, Tennessee. Information is also available at TVA's Washington Office (202) 898-2999. People who plan to attend the meeting and have special needs should call (865) 632-6000.

Dated: February 26, 2001.
Maureen H. Dunn,
General Counsel and Secretary.

[FR Doc. 01-5160 Filed 2-27-01; 4:16 pm]

BILLING CODE 8120-08-M